DEPARTMENT OF THE INTERIOR

Bureau of Land Management

[CA-310-0777-XG]

Notice of Pubic Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, Aug. 12 and 13, 2004, in Arcata, California. On Aug. 12, the meeting begins at 10 a.m. at the BLM Arcata Field Office, 1695 Heindon Rd. Members will depart for a field tour to the former Centerville Navy facility near Ferndale. On Aug. 13, the meeting begins at 8 a.m. in the Little River Room of the North Coast Inn, 4975 Valley West Blvd., Arcata. Time for public comment has been set aside for 1 pm.

FOR FURTHER INFORMATION CONTACT: Lynda Roush, BLM Arcata Field Office Manager, (707) 825-2300; or BLM Public Affairs Officer Joseph J. Fontana, (530) 252-5332.

SUPPLEMENTARY INFORMATION: The 12-member council advises the Secretary of the Interior, through the BLM, on a variety of planning and management issues associated with public land management in Northwest California. At this meeting, agenda topics will include issue scoping for development of a new Resource Management Plan for the Ukiah Field Office, a status report on the King Range Management Plan, an update on target shooting issues in the Redding Field Office and a discussion about changing recreation issues and trends on BLM-managed lands in the region. The RAC members will also hear status reports from the Arcata, Redding and Ukiah field office managers. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: June 15, 2004.
Joseph J. Fontana,
Public Affairs Officer.

[FR Doc. 04-14007 Filed 6-21-04; 8:45 am]

BILLING CODE 4310-40-M